INTER-AMERICAN FOUNDATION

Sunshine Act Meetings

TIME AND DATE: August 11, 2014, 9 a.m.-10 a.m.

PLACE: Inter-American Foundation, 1331 Pennsylvania Ave NW., 12th Floor North, Suite 1200, Washington, DC 20004.

STATUS: Meeting of the Board of Directors, Open to the Public.

MATTERS TO BE CONSIDERED:

• Approval of the Minutes of the March 31, 2014, Meeting of the Board of Directors

• Management Report

• Dates for Meetings in 2015

• Adjournment

CONTACT PERSON FOR MORE INFORMATION: Paul Zimmerman, General Counsel, (202) 683-7118.

Paul Zimmerman,
General Counsel.

[FR Doc. 2014-18053 Filed 7-28-14; 4:15 pm]

BILLING CODE 7025-01-P